DEPARTMENT OF HEALTH AND HUMAN SERVICES

Health Resources and Services Administration

Agency Information Collection Activities: Submission to OMB for Review and Approval; Public Comment Request; Ryan White HIV/AIDS Program Outcomes and Expanded Insurance Coverage

AGENCY: Health Resources and Services Administration (HRSA), Department of Health and Human Services.

ACTION: Notice.

SUMMARY: In compliance with Section 3507(a)(1)(D) of the Paperwork Reduction Act of 1995, HRSA has submitted an Information Collection Request (ICR) to the Office of Management and Budget (OMB) for review and approval. Comments submitted during the first public review of this ICR will be provided to OMB. OMB will accept further comments from the public during the review and approval period.

DATES: Comments on this ICR should be received no later than February 10, 2017.

ADDRESSES: Submit your comments, including the ICR Title, to the desk officer for HRSA, either by email to OIRA_submission@omb.eop.gov or by fax to 202-395-5806.

FOR FURTHER INFORMATION CONTACT: To request a copy of the clearance requests submitted to OMB for review, email the HRSA Information Collection Clearance Officer at paperwork@hrsa.gov or call (301) 443-1984.

SUPPLEMENTARY INFORMATION:

Information Collection Request Title: Ryan White HIV/AIDS Program Outcomes and Expanded Insurance Coverage

OMB No. 0906-xxxx—NEW

Abstract: HRSA, HIV/AIDS Bureau (HRSA/HAB) implements the Ryan White HIV/AIDS Program (RWHAP). This program provides HIV-related services in the United States for those who do not have sufficient health care coverage or financial resources for coping with HIV disease. The recent expansion of health coverage impacted a significant portion of RWHAP's traditional clients (newly-eligible Medicaid recipient clients, qualified health plan (QHP) insured clients, and uninsured clients) who are now eligible to receive third party reimbursement care. These changes require RWHAP sites to fill the different gaps in care experienced by clients across the varying health care coverage options. The purpose of this evaluation study is to determine the effect that changing health care coverage has had on overall health outcomes, service utilization, and gaps in care of HIV-positive individuals. This evaluation also seeks to understand how RWHAP provider sites meet the needs of clients under the variety of health care coverage options.

Need and Proposed Use of the Information: The expansion of health coverage offers new options of obtaining health care services for many individuals with HIV. Due to these changes, additional information concerning overall client health outcomes, pharmaceutical and core medical processes and outcomes, and client access to and utilization of support services is needed. Data from this evaluation study will be used to provide HRSA/HAB with the necessary information to understand the changes in primary health care outcomes of RWHAP clients, pre- and post- implementation of recent insurance expansion and inform how the RWHAP can best serve clients.

As a result of the 60-day Federal Register Notice, two comments were received. Both commenters strongly supported the proposed information collection and urged HRSA to include whether access and coverage to medical nutritional therapy and food bank/home delivered meals are impacted by the expanded insurance coverage. Medical nutrition therapy and food bank/home-delivered meals had already been included in the project design.

Likely Respondents: RWHAP Administrators, RWHAP Care Providers, and RWHAP Clients.

Burden Statement: Burden in this context means the time expended by persons to generate, maintain, retain, disclose, or provide the information requested. This includes the time needed to review instructions; to develop, acquire, install and utilize technology and systems for the purpose of collecting, validating and verifying information, processing and maintaining information, and disclosing and providing information; to train personnel and to be able to respond to a collection of information; to search data sources; to complete and review the collection of information; and to transmit or otherwise disclose the information. The total annual burden hours estimated for this ICR are summarized in the table below.

Total Estimated Annualized Burden Hours:

Form name | Number of respondents | Number of responses per respondent | Total responses | Average burden per response (in hours) | Total burden hours
Site Survey | 305 | 1 | 305 | 0.5 | 152.5
Medical Chart/Record Abstraction | *25 | 1 | 25 | 2 | 50
Focus Group (recruit participants) | *25 | 1 | 25 | 1 | 25
Site Interview Guide | 50 | 1 | 50 | 2 | 100
Focus Groups Guide | 60 | 1 | 60 | 1.5 | 90
Total | *440 |  | *440 |  | 417.5
* The same respondents will complete the medical chart/record abstraction and recruit participants for the focus group.

Jason E. Bennett,
Director, Division of the Executive Secretariat.

[FR Doc. 2017-00322 Filed 1-10-17; 8:45 am]

BILLING CODE 4165-15-P